DEPARTMENT OF COMMERCE

International Trade Administration

[A-588-880]

Thermal Paper From Japan: Final Affirmative Determination of Sales at Less Than Fair Value

AGENCY: Enforcement and Compliance, International Trade Administration, Department of Commerce

SUMMARY: The Department of Commerce (Commerce) determines that thermal paper from Japan is being, or is likely to be, sold in the United States at less than fair value (LTFV) for the period of investigation, October 1, 2019, through September 30, 2020.

DATES: Applicable September 30, 2021.

FOR FURTHER INFORMATION CONTACT: Alex Wood or Paul Litwin, AD/CVD Operations, Office II, Enforcement and Compliance, International Trade Administration, U.S. Department of Commerce, 1401 Constitution Avenue NW, Washington, DC 20230; telephone: (202) 482-1959 or (202) 482-6002, respectively.

SUPPLEMENTARY INFORMATION:

Background

On May 12, 2021, Commerce published in the Federal Register the preliminary affirmative determination in the LTFV investigation of thermal paper from Japan, in which we also postponed the final determination until September 24, 2021.¹ Commerce invited interested parties to comment on the Preliminary Determination. A summary of the events that occurred since Commerce published the Preliminary Determination may be found in the Issues and Decision Memorandum.²

¹ See Thermal Paper from the Republic of Japan: Preliminary Affirmative Determination of Sales at Less Than Fair Value, Postponement of Final Determination, and Extension of Provisional Measures, 86 FR 26011 (May 12, 2021) (Preliminary Determination), and accompanying Preliminary Decision Memorandum (PDM).

² See Memorandum, “Decision Memorandum for the Final Affirmative Determination in the Less-Than-Fair-Value Investigation of Thermal Paper from Japan,” dated concurrently with, and hereby adopted by, this notice (Issues and Decision Memorandum).

Scope of the Investigation

The product covered by this investigation is thermal paper from Japan. For a complete description of the scope of this investigation, see Appendix I.

Scope Comments

On May 5, 2021, Commerce issued the Preliminary Scope Decision Memorandum.³ We received comments from interested parties with regard to the Preliminary Scope Decision Memorandum, which we addressed in the Final General Scope Decision Memorandum, and Final Japan Scope Decision Memorandum.⁴ Commerce has made no changes to the scope of this investigation since the Preliminary Determination.

³ See Memorandum, “Thermal Paper from Germany, Japan, the Republic of Korea, and Spain: Preliminary Scope Decision,” dated May 5, 2021 (Preliminary Scope Decision Memorandum).

⁴ See Memorandum, “Thermal Paper from Germany, Japan, the Republic of Korea, and Spain: Final Decision on General Scope Issues,” dated concurrently with, and hereby adopted by, this notice (Final General Scope Decision Memorandum); and Memorandum, “Thermal Paper from Japan: Final Scope Decision,” dated concurrently with, and hereby adopted by, this notice (Final Japan Scope Decision Memorandum).

Analysis of Comments Received

On June 24, 2021, the petitioners ⁵ filed a case brief. No other interested party submitted a case or rebuttal brief. All issues raised in the petitioners' case brief are addressed in the Issues and Decision Memorandum. A list of the issues addressed in the Issues and Decision Memorandum is attached to this notice as Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn.

⁵ The petitioners are Appvion Operations, Inc., and Domtar Corporation.

Methodology—Adverse Facts Available

Prior to verification, Nippon Paper Industries, Co., Ltd. (NPI), the sole mandatory respondent in this investigation, informed Commerce that it was withdrawing its participation from this investigation.⁶ Thus, we determine that NPI's data cannot serve as a reliable basis for our Final Determination because NPI's data could not be verified. We further determine that NPI significantly impeded the investigation and did not act to the best of its ability to comply with our requests for information. Therefore, we find it appropriate to apply a dumping margin based on adverse facts available (AFA) to NPI, in accordance with sections 776(a) and (b) of the Act. For further discussion, see the Issues and Decision Memorandum.

⁶ See NPI's Letter, “NPI's Withdrawal as Mandatory Respondent,” dated June 17, 2021.

Verification

As noted above, NPI withdrew its participation from this investigation prior to verification. Accordingly, Commerce was unable to conduct verification pursuant to section 782(i)(1) of the Act.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act. Pursuant to section 735(c)(5)(B) of the Act, if the estimated weighted-average dumping margins established for all exporters and producers individually examined are zero, de minimis, or determined based entirely on facts otherwise available, Commerce may use any reasonable method to establish the estimated weighted-average dumping margin for all other producers or exporters.

Commerce has determined the estimated weighted-average dumping margin for the sole individually-examined respondent entirely under section 776 of the Act. Pursuant to section 735(c)(5)(B) of the Act, Commerce's practice under these circumstances has been to assign, as the all-others rate, a simple average of the petition rates.⁷ In the Petition, the petitioners provided two dumping margins, 140.25 percent and 129.86 percent, which were each based on a price-to-constructed-value comparison.⁸ Therefore, in the absence of any estimated weighted-average dumping margin on the record of this investigation that is not zero, de minimis, or determined entirely under section 776 of the Act, we are assigning the simple average of the two dumping margins in the Initiation Checklist, i.e., 135.06 percent, as the all-others rate.

⁷ See, e.g., Notice of Final Determination of Sales at Less Than Fair Value: Sodium Nitrite from the Federal Republic of Germany, 73 FR 38986, 38987 (July 8, 2008), and accompanying Issues and Decision Memorandum at Comment 2.

⁸ See Thermal Paper from Germany, Japan, the Republic of Korea, and Spain: Initiation of Less-Than-Fair-Value Investigations, 85 FR 69580 (November 3, 2020); and Checklist, “Thermal Paper from Japan,” dated October 27, 2020 (Initiation Checklist) at 6-7.

Final Determination

The final estimated weighted-average dumping margins are as follows:

Exporter/producer | Estimated weighted- average dumping margin (percent)
Nippon Paper Industries Co., Ltd./Nippon Paper Papylia Co., Ltd⁹ | 140.25
All Others | 135.06

Disclosure

Normally, Commerce discloses to interested parties the calculations performed in connection with a final determination within five days of any public announcement or, if there is no public announcement, within five days of the date of publication of the notice of final determination in the Federal Register, in accordance with 19 CFR 351.224(b). However, because Commerce applied AFA to the mandatory respondent in this investigation, NPI, in accordance with section 776 of the Act, and the AFA dumping margin is based solely on the petition, there are no calculations to disclose.

⁹ Commerce preliminarily determined that Nippon Paper Industries Co, Ltd., and Nippon Paper Papylia Co., Ltd. are a single entity. See Preliminary Determination PDM at 2.

Continuation of Suspension of Liquidation

In accordance with section 735(c)(1)(B) of the Act, Commerce will instruct U.S. Customs and Border Protection (CBP) to continue to suspend liquidation of all appropriate entries of thermal paper from Japan, as described in Appendix I of this notice, that were entered, or withdrawn from warehouse, for consumption on or after May 12, 2021, the date of publication in the Federal Register of the affirmative Preliminary Determination.

Pursuant to section 735(c)(1)(B)(ii) of the Act and 19 CFR 351.210(d), we will instruct CBP to require a cash deposit equal to the estimated weighted-average dumping margin or the estimated all-others rate, as follows: (1) The cash deposit rate for the respondent listed above will be equal to the company-specific estimated weighted-average dumping margin determined in this final determination; (2) if the exporter is not a respondent identified above, but the producer is, then the cash deposit rate will be equal to the company-specific estimated weighted-average dumping margin established for that producer of the subject merchandise; and (3) the cash deposit rate for all other producers and exporters will be equal to the all-others estimated weighted-average dumping margin.

These suspension of liquidation instructions will remain in effect until further notice.

International Trade Commission Notification

In accordance with section 735(d) of the Act, we will notify the International Trade Commission (ITC) of this final affirmative determination of sales at LTFV. Because Commerce's final determination is affirmative, in accordance with section 735(b)(2) of the Act, the ITC will make its final determination as to whether the domestic industry in the United States is materially injured, or threatened with material injury, by reason of imports or sales (or the likelihood of sales) for importation of thermal paper from Japan no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Notification Regarding Administrative Protective Order

This notice will serve as a final reminder to the parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination and this notice are issued and published in accordance with sections 735(d) and 777(i)(1) of the Act, and 19 CFR 351.210(c).

Dated: September 24, 2021.
Christian Marsh,
Acting Assistant Secretary for Enforcement and Compliance.

Appendix I

Scope of the Investigation

The scope of this investigation covers thermal paper in the form of “jumbo rolls” and certain “converted rolls.” The scope covers jumbo rolls and converted rolls of thermal paper with or without a base coat (typically made of clay, latex, and/or plastic pigments, and/or like materials) on one or both sides; with thermal active coating(s) (typically made of sensitizer, dye, and co-reactant, and/or like materials) on one or both sides; with or without a top coat (typically made of pigments, polyvinyl alcohol, and/or like materials), and without an adhesive backing. Jumbo rolls are defined as rolls with an actual width of 4.5 inches or more, an actual weight of 65 pounds or more, and an actual diameter of 20 inches or more (jumbo rolls). All jumbo rolls are included in the scope regardless of the basis weight of the paper. Also included in the scope are “converted rolls” with an actual width of less than 4.5 inches, and with an actual basis weight of 70 grams per square meter (gsm) or less.

The scope of this investigation covers thermal paper that is converted into rolls with an actual width of less than 4.5 inches and with an actual basis weight of 70 gsm or less in third countries from jumbo rolls produced in the subject countries.

The merchandise subject to this investigation may be classified in the Harmonized Tariff Schedule of the United States (HTSUS) under subheadings 4811.90.8030 and 4811.90.9030. Although HTSUS subheadings are provided for convenience and customs purposes, the written description of the scope of this investigation is dispositive.

Appendix II

List of Sections Discussed in the Issues and Decision Memorandum

I. Summary

II. Background

III. Application of Facts Available and Use of Adverse Inference

IV. Scope of the Investigation

V. Discussion of the Issues

Comment 1: Whether AFA is Appropriate for NPI

Comment 2: Whether the Highest Petition Rate is Applicable as the AFA Rate

VI. Recommendation

[FR Doc. 2021-21302 Filed 9-29-21; 8:45 am]

BILLING CODE 3510-DS-P